POSTAL SERVICE

39 CFR Part 20

Discontinuation of International Surface Air Lift

AGENCY: Postal Service.

ACTION: Final rule.

SUMMARY: The Postal Service is revising Mailing Standards of the United States Postal Service, International Mail Manual (IMM®), and Notice 123, Price List, to terminate International Surface Air Lift (ISAL) service as established by the Governors of the United States Postal Service.

DATES: Effective January 18, 2026.

FOR FURTHER INFORMATION CONTACT: Dale Kennedy at 202-268-6592 or Michelle Lassiter at 202-268-2914.

SUPPLEMENTARY INFORMATION: On September 5, 2025, the Postal Service filed a request to remove International Surface Air Lift (ISAL) from the competitive product list in PRC Docket No. MC2025-1676, which the PRC favorably reviewed on October 30, 2025, in Order No. 9320. Therefore, the Postal Service is revising Mailing Standards of the United States Postal Service, International Mail Manual (IMM) to reflect the discontinuation of International Surface Air Lift as a competitive product, effective January 18, 2026. Notice 123, Price List, will be updated accordingly. This order is available on the PRC website at https://www.prc.gov.

The Postal Service hereby adopts the following changes to Mailing Standards of the United States Postal Service, International Mail Manual (IMM), which is incorporated by reference in the Code of Federal Regulations. We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations, as follows (see 39 CFR 20.1):

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the IMM as follows:

* * * * *

Mailing Standards of the United States Postal Service, International Mail Manual (IMM)

* * * * *

1 International Mail Services

* * * * *

120 Preparation for Mailing

* * * * *

122 Addressing

122.1 Destination Address

[Revise the last sentence of item d. to read as follows:]

* * * See 292.41 for an optional addressing procedure that applies only to direct country containers of International Priority Airmail (IPA) mail.

* * * * *

122.2 Return Address

* * * * *

122.23 Required Use of Return Address

[Revise the second sentence to read as follows:]

* * * For the purpose of this section, a “bulk mailing” is any IPA mailing or any other mailing paid with an advance deposit account and presented to the U.S. Postal Service for acceptance.* * *

* * * * *

123 Customs Forms and Online Shipping Labels

* * * * *

123.6 Required Usage

123.61 Conditions

* * * * *

[Revise Exhibit 123.61 (removing references to “International Surface Air Lift” and “ISAL”) to read as follows:]

Exhibit 123.61 (p.1)

Customs Declaration Form Usage by Mail Category
Type of item | Declared value, weight, or physical characteristic | Required PS form | Comment (if applicable)
* * * * * * *
First-Class Mail International Letters and Large Envelopes (Flats), as well as International Priority Airmail (IPA) Letters and Large Envelopes (Flats)
All First-Class Mail International letter-size and flat-size items, as defined in 241.2, containing only nondutiable documents | Under 16 ounces ³ | None ⁴ | See 123.62 for additional information concerning “documents.” Items containing merchandise are prohibited in First-Class Mail International.⁵
All IPA letter-size and flat-size items, as defined in 241.2, containing only nondutiable documents | Under 16 ounces ³ 16 ounces to 17.6 ounces | None ⁴ 2976 or 2976-A ² | See 123.62 for additional information concerning “documents.” Items containing merchandise are prohibited in IPA letters and large envelopes (flats).⁵
All items containing any goods, regardless of weight | Prohibited | Prohibited | See 123.62 for additional information concerning “documents” and merchandise. Items containing merchandise are prohibited in First-Class Mail International and in IPA letters and large envelopes (flats).⁵
First-Class Package International Service Packages (Small Packets), including IPA Packages (Small Packets)
All First-Class Package International Service packages (small packets), as defined in 251.2, regardless of contents, and, for commercial mailers, IPA packages (small packets), regardless of contents | $400 or less Over $400 | 2976 or 2976-A ² Prohibited | Merchandise is permitted unless prohibited by the destination country. Items over $400 must be mailed using Global Express Guaranteed service, Priority Mail Express International service, or Priority Mail International service.
* * * * * * *
M-bags (Airmail and IPA Service) * * *

* * * * *

[Revise footnote 5 to read as follows:]

5 Items containing merchandise are mailable using Global Express Guaranteed, Priority Mail Express International service, Priority Mail International service, or First-Class Package International Service; commercial mailers may also use IPA packages (small packets).

* * * * *

123.62 Separation of Documents and Merchandise

123.621 Explanation of Separation

[Revise the first sentence to read as follows:]

Letter-post mail (First-Class Mail International, International Priority Airmail, and First-Class Package International Service) must be separated based on contents into Documents and Merchandise categories.* * *

* * * * *

150 Postage

* * * * *

152 Payment Methods

* * * * *

152.21 Determining Single-Piece Weight

[Revise the second sentence to read as follows:]

* * * To determine single-piece weight in any other bulk or presort price mailing of identical-weight pieces (e.g., IPA), weigh a sample group of at least 10 randomly selected pieces and divide the total sample weight by the number of pieces in the sample.* * *

* * * * *

152.33 Precanceled Stamps

[Revise the first sentence to read as follows:]

Except for the “Nonprofit Org.” variant, mailers may use precanceled stamps for only IPA mailings (see 293.333).* * *

* * * * *

152.4 Postage Meters, Postage Validation Imprints (PVI), Forever Print-on-Demand Indicia, and PC Postage

[Revise the second to last sentence to read as follows:]

* * *In addition, postage meters may also be used to pay for the “per piece price” portion of IPA (see 292) mailings.* * *

* * * * *

152.6 Permit Imprint

152.61 Conditions of Use

[Delete item g. in its entirety.]

* * * * *

152.63 Usage Criteria

* * * * *

[Revise the title, text, and Note of 152.633 to read as follows:]

152.633 International Priority Airlift

See 292.23 for the minimum quantity requirements that govern the entry of International Priority Airmail (IPA) items.

Note: As discussed in 152.631c, a mailer who meets the minimum requirements for IPA items may combine with that mailing other permit imprint mailings for Global Express Guaranteed, Priority Mail Express International, Priority Mail International, or First-Class Package International Service items. The mailer must physically separate the items by mail class and submit a separate postage statement for each mail class.

* * * * *

152.64 Required Format

[Revise pages 3 and 4 of Exhibit 152.64 to remove the entry for International Surface Air Lift (ISAL) to read as follows:]

* * * * *

Exhibit 152.64 (p. 3)

Indicia Formats

Exhibit 152.64 (p. 4)

Indicia Formats

* * * * *

2 Conditions for Mailing

* * * * *

240 First-Class Mail International

* * * * *

242 Eligibility

* * * * *

242.2 Merchandise

[Revise the last sentence to read as follows:]

* * * Items containing merchandise may be sent by Global Express Guaranteed service, Priority Mail Express International service, Priority Mail International service, or First-Class Package International Service; commercial mailers may also use IPA packages (small packets).

* * * * *

260 Direct Sacks of Printed Matter to One Addressee (M-Bags)

261 Description

261.1 General

[Revise the text (removing third bullet reference to “International Surface Air Lift (ISAL) M-bags”) to read as follows:]

M-bags are defined as direct sacks of printed matter sent to a single foreign addressee at a single address. There are two types of M-bags:

Airmail M-bags.

International Priority Airmail (IPA) M-bags.

[Revise the itemized list by removing references to ISAL from items b. and e. to read as follows:]

All M-bags are subject to the following conditions of mailing:* * *

b. Availability: All destinations that are referenced in the Individual Country Listings for Airmail M-bags, in Exhibit 292.45 for IPA M-bags.

* * * * *

e. Postage: The applicable postage for Airmail M-bags and International Priority Airmail (IPA) must be affixed to PS Tag 158.

* * * * *

261.2 Eligibility

* * * * *

261.22 Mail Not Sealed Against Inspection

[Revise the second sentence to read as follows:]

* * *Regardless of physical closure, the mailing of an M-bag, including an airmail or IPA M-bag, constitutes consent by the mailer to inspection of the contents.

* * * * *

262 Postage Prices and Fees

* * * * *

[Remove 262.3 in its entirety (removing any reference to “International Surface Air Lift (ISAL) M-bags”) and renumber current 262.4 and 262.5 as 262.3 and 262.4, respectively.]

* * * * *

263 Weight and Size Limits

263.1 Weight Limits

[Revise the first sentence to read as follows:]

There is no minimum weight requirement for the entry of Airmail M-bags or IPA M-bags.* * *

* * * * *

264 Mail Preparation

* * * * *

264.22 Tagging

[Delete the last sentence in its entirety (removing any reference to “ISAL”).]

* * * * *

292 International Priority Airmail (IPA) Service

* * * * *

292.5 Mail Entry and Deposit

* * * * *

292.532 Drop Shipment Locations

* * * * *

[Revise footnote 2 (removing any reference to “ISAL mail”) to read as follows.]

2. This facility accepts cleared and uncleared IPA mail.

* * * * *

[Revise the title of 293 to read as follows and delete the text in its entirety (removing any reference to “International Surface Air Lift (ISAL) Service”).]

293 (Reserved)

* * * * *

Individual Country Listings

* * * * *

Indonesia

* * * * *

Observations

[Revise item 8. to read as follows:]

8. To facilitate customs clearance and delivery of items, Pos Indonesia (the designated postal operator of Indonesia) requests that the mailer provide the addressee's mobile telephone number and email address, if possible, on the address label of Registered Mail letters and on the customs declaration form for each item sent with any of the following services: First-Class Package International Service, International Priority Airmail packages (small packets), Priority Mail International, and Priority Mail Express International.

* * * * *

Libya

* * * * *

Observations

[Revise item 3. to read as follows:]

3. In accordance with Executive Order 12543 of January 7, 1986, merchandise is limited to donations of articles of food, clothing, medicines, and medical supplies that are intended strictly for medical purposes. First-Class Package International Service items and International Priority Airmail (IPA) items are subject to the content restriction.

* * * * *

List of Exhibits

[Revise the list by removing the following entries in their entirety:]

Exhibit 293.45a

ISAL Foreign Office of Exchange Codes and Price Groups 127

Exhibit 293.45b

Canadian Mail Container Labeling Information (Full-service Only) 130

Exhibit 293.462

Labeling of ISAL Mail to Postal Service Exchange Offices (Full-service only) 132

Exhibit 293.483

Labeling of ISAL Mail to Postal Service Exchange offices (Full-service only) 135,

Exhibit 293.532

ISAL Drop Shipment Locations 137

* * * * *

Index

* * * * *

A

* * * * *

Availability

[Remove the entry for International Surface Air Lift (ISAL) in its entirety:]

* * * * *

C

* * * * *

Canada Eggs, Mailing 138.32

[Revise the text to read as follows:]

Forwarding periodicals publications from 764.121

Labeling list for IPA 292.45

Shortpaid postage 423.21; 732

* * * * *

I

* * * * *

[Remove the entries for “International Surface Air Lift (ISAL) Service 293” and “ISAL (International Surface Air Lift) 293” in their entirety.]

* * * * *

M

M-bags 260

[Revise the list by removing the entry for “ISAL” in its entirety.]

* * * * *

P

* * * * *

Postage 150

[Revise the list by removing the entry for “ISAL” in its entirety.]

* * * * *

S

Sacking requirements

[Revise the list by removing the entry for “ISAL” in its entirety.]

Sealing

[Revise the list by removing the entry for “ISAL” in its entirety.]

* * * * *

Size limits

[Revise the list by removing the entry for “ISAL” in its entirety.]

* * * * *

W X Y Z

* * * * *

Weight limits (see ICL)

[Revise the list by removing the entry for “ISAL” in its entirety.]

* * * * *

Daria Valan,
Attorney, Ethics and Legal Compliance.

[FR Doc. 2025-21088 Filed 11-24-25; 8:45 am]

BILLING CODE P